DEPARTMENT OF ENERGY

Federal Energy Regulatory Commission

[Docket No. RP05-51-000]

Dominion Transmission, Inc.; Notice of Proposed Changes in FERC Gas Tariff

November 2, 2004.

Take notice that on October 29, 2004, Dominion Transmission, Inc. (DTI) tendered for filing as part of its FERC Gas Tariff, Third Revised Volume No. 1, the following tariff sheets, to become effective December 1, 2004:

First Revised Sheet No. 150

First Revised Sheet No. 204

First Revised Sheet No. 300

Fifth Revised Sheet No. 1001

Second Revised Sheet No. 1045

First Revised Sheet No. 1046

First Revised Sheet No. 1047

Second Revised Sheet No. 1048

First Revised Sheet No. 1049

First Revised Sheet No. 1050

First Revised Sheet No. 1051

First Revised Sheet No. 1158

Second Revised Sheet No. 1159

Second Revised Sheet No. 1160

First Revised Sheet No. 1161

First Revised Sheet No. 1505

Original Sheet No. 1506

Original Sheet No. 1507

Original Sheet No. 1508

Original Sheet No. 1509

Sheet Nos. 1510-1999

Third Revised Sheet No. 2005

First Revised Sheet No. 2055

DTI states that the purpose of this filing is to revise DTI's Tariff to clarify and update all procedures related to the allocation of capacity. DTI proposes specifically (i) to update the right of first refusal (ROFR) of applicable customers and related procedures in a modified Section 24 of the General Terms and Conditions of DTI's tariff (GT&C) to reflect the Commission's current policies, (ii) to clarify and update procedures for the allocation of unsubscribed firm capacity on DTI to reflect the Commission's current policies in new GT&C Section 43, (iii) to add provisions permitting DTI, under certain conditions well established in past proceedings, to reserve available capacity for future expansion projects in new GT&C Section 44, and (iv) to modify or eliminate various existing, out-dated tariff provisions that conflict with the new proposals.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-3108 Filed 11-9-04; 8:45 am]

BILLING CODE 6717-01-P